DEPARTMENT OF THE TREASURY

Proposed Collections; Comment Requests

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Office of the State Small Business Credit Initiative (SSBCI) within the Department of the Treasury is soliciting comments concerning (1) the SSBCI Allocation Agreement for Participating States, (2) the SSBCI Allocation Agreement for Participating Municipalities, (3) the SSBCI Application Form, and (4) the SSBCI Technical Assistance Quarterly Review collection.

On September 27, 2010, President Obama signed into law the Small Business Jobs Act of 2010 (the “Act”). Title III of the Act created the State Small Business Credit Initiative (SSBCI), which was funded with $1.5 billion to strengthen State programs that support lending to small businesses and small manufacturers. Treasury allocated Federal funds to participating States, territories, the District of Columbia, and municipalities (“Participating States”) in order to support statutorily eligible State or municipal capital access programs and other eligible State or municipal credit support programs, including loan guarantee, loan participation, collateral support, and venture capital programs. SSBCI is a one-time program of limited duration. The first two information collections memorialize the reporting requirements for Participating States, as required by the Act. The third information collection is only required of Participating States that wish to request an amendment to their prior approved applications. The final information collection is a voluntary telephonic collection from Participating States that wish to take advantage of technical assistance made available from Treasury as Participating States administer their programs.

DATES: Written comments must be received on or before April 24, 2012 to be assured of consideration.

ADDRESSES: You may submit comments by any of the following methods:

Fax: Attn: Request for Comments (SSBCI Proposed Information Collection) (202) 622-9947.

Mail: Attn: Request for Comments (SSBCI Proposed Information Collection). Office of State Small Business Credit Initiative, Department of the Treasury, 1500 Pennsylvania Avenue NW., Washington, DC 20220.

Instructions: All submissions received must include the agency name and the Federal Register Doc. number that appears at the end of this document. Comments received will be made available to the public via regulations.gov or upon request, without change and including any personal information provided.

FOR FURTHER INFORMATION CONTACT: Requests for additional information about the filings or procedures should be directed to Deputy Director, SSBCI, Department of the Treasury, 1500 Pennsylvania Avenue NW., Washington, DC 20220.

SUPPLEMENTARY INFORMATION:

Title: SSBCI Allocation Agreement for Participating States.

OMB Control Number: 1505-0227.

Abstract: The SSBCI Allocation Agreement for States, which is required by Title III of the Small Business Jobs Act of 2010 (Pub. L. 111-240, “the Act”), will memorialize the terms and conditions for funds made available to participating states under the SSBCI. Among other duties, included in the terms of this agreement is the requirement that all Participating States submit quarterly and annual reporting to Treasury which details the use of funds under the program. This information is necessary in order to comply with reporting requirements established by the Act.

The SSBCI Allocation Agreement for Participating Municipalities is a modified version of the SSBCI Allocation Agreement for Participating States that contains additional specific provisions for municipalities participating in the SSBCI, principally: (a) a requirement that municipal applicants applying jointly for SSBCI funds shall document and provide to Treasury a copy of a cooperative agreement that details the roles and responsibilities among each municipality as a condition of closing; and (b) a requirement that, for any loans or investments made outside of the geographic borders of a Participating Municipality, that Participating Municipality shall warrant in writing that such a transaction will result in significant economic benefit to that municipality.

The SSBCI Application form will collect information from Participating States, territories, or municipalities that wish to request an amendment to their existing approved SSBCI Application throughout the term of the Allocation Agreement. This form will collect the following: (a) Information about proposed changes to the apportionment of SSBCI funds among programs; (b) program design information for proposed new programs; or, (c) proposed material changes to the design of programs. Only those participating states, territories, or municipalities that elect to request a modification to their original SSBCI Application will be required to complete this form.

The SSBCI Technical Assistance Quarterly Review collection is a voluntary collection from Participating States, territories, and municipalities that will be conducted telephonically on a quarterly basis and will not require a written submission to Treasury. The SSBCI Technical Assistance Quarterly Review will collect the following: (a) Qualitative data related to program performance; (b) an assessment of program implementation status to date; and (c) an assessment any future challenges to program performance. This data will be used by Treasury to determine the types and methods through which to offer technical assistance to participants in order to assist states with meeting the program performance goals of achieving the private leverage expectations of the SSBCI.

Type of Review: Extension of a currently approved collection.

Affected Public: States, territories, the District of Columbia and municipalities that were approved by Treasury to participate in the SSBCI.

SSBCI Quarterly and Annual Reporting Requirements

Estimated Number of Respondents: 62.

Estimated Average Time per Respondent: Approximately ten (10) hours per respondent per year. The estimated average time per respondent for the quarterly report is one (1) hour per report for a total of four (4) hours per year. The estimated average time per respondent for the annual report ranges from two (2) hours per year to approximately nineteen (19) hours per year depending on the use of electronic reporting mechanisms. The weighted average time per respondent for the annual report is 6.36 hours per year. The total estimated annual burden for this collection is 642 hours per year.

SSBCI Allocation Agreement for Participating Municipalities

Estimated Number of Respondents: 5.

Estimated Average Time per Respondent: SSBCI anticipates that 3 applicants will require a cooperative agreement. The estimate time to complete this document is 40 hours per agreement, for a net, one-time total of 120 hours. Municipalities that have applied for the SSBCI program anticipate a total of 195 loan or investment transactions per year. SSBCI estimates that approximately 20% of these transactions may occur outside of the boundaries of applicant municipalities and that for each applicable transaction, the warranty will take approximately 1 hour to complete. Therefore, the estimated annual burden associated with warrants will take 39 hours.

SSBCI Application Form

Estimated Number of Respondents: 15 per year.

Estimated Average Time per Respondent: The estimated average time per respondent to complete the sections of the application form that document program design is approximately nine (9) hours per respondent per year. SSBCI estimates that approximately 15 respondents will elect to request a modification each year for a total estimated annual burden of 135 hours per year.

SSBCI Technical Assistance Quarterly Review

Estimated Number of Respondents: 62.

Estimated Average Time per Respondent: Approximately four (4) hours per respondent per year. The estimated average time per respondent for the quarterly review is one (1) hour telephone call conducted a total of four (4) hours per year. The estimated total annual burden is 248 hours per year.

Estimated Total Annual Burden Hours for all Collections: 1,064 hours, plus a one-time total burden of 135 hours for municipalities that apply jointly.

Request for Comments: Comments submitted in response to this notice will be summarized and/or included in the request for OMB approval. All comments will become a matter of public record. Comments are invited on: (a) Whether the collection of information is necessary for the proper performance of the functions of the agency, including whether the information has practical utility; (b) the accuracy of the agency's estimate of the burden of the collection of information, including the validity of the methodology and assumptions used; (c) ways to enhance the quality, utility, and clarity of the information to be collected; (d) ways to minimize the burden of the collection of information on respondents, including through the use of automated collection techniques or other forms of information technology, and (e) estimates of capital or start-up costs and costs of operation, maintenance, and purchase of services to provide information.

Robert Dahl,
Treasury PRA Clearance Officer.

[FR Doc. 2012-4257 Filed 2-23-12; 8:45 am]

BILLING CODE 4810-25-P